NATIONAL AERONAUTICS AND SPACE ADMINISTRATION

[Notice 01-119]

NASA Advisory Council (NAC), Aerospace Technology Advisory Committee (ATAC); Meeting

AGENCY: National Aeronautics and Space Administration.

ACTION: Notice of meeting.

SUMMARY: In accordance with the Federal Advisory Committee Act, Pub. L. 92-463, as amended, the National Aeronautics and Space Administration announces a forthcoming meeting of the NASA Advisory Council, Aero-space Technology Advisory Committee.

DATES: Tuesday, October 30, 2001, 8:30 a.m. to 5:30 p.m.; and Wednesday, October 31, 2001, 9:00 a.m. to 5:00 p.m.

ADDRESSES: Channel Inn Hotel, 650 Water Street SW, Washington, DC 20024 and Holiday Inn, Rosslyn Westpark Hotel, 1900 North Fort Myer Drive, Arlington, Virginia 22209.

FOR FURTHER INFORMATION CONTACT: Ms. Mary-Ellen McGrath, Office of Aerospace Technology, National Aeronautics and Space Administration, Washington, DC 20546 (202/358-4729).

SUPPLEMENTARY INFORMATION: The meeting will be open to the public up to the seating capacity of the room. The agenda for the meeting is as follows:

Tuesday, October 30—Channel Inn Hotel, 8:30 a.m. to 5:30 p.m.

—ATAC Restructuring

—Space Launch Initiative (SLI)

—Enterprise State of Affairs

—FY 2001Government Performance Results Act (GPRA) Report

—Subcommittee Reports

—NASA's University Research Engineering Technology Institute

Wednesday, October 31—Channel Inn Hotel 9:00 a.m. to 11:30 a.m. and

Holiday Inn, Rosslyn Westpark Hotel, 1:00 p.m. to 5:00 p.m.

—Opening Comments for Joint Aerospace Technology Advisory Committee (ATAC) and Research, Engineering and Development Advisory Committee (REDAC)

—Commission on the Future of the U.S. Aerospace Industry

—Budget Synopsis: Enacted FY 2002 and FY 2003 Outlook

—Vehicle Noise and Emissions Reduction Technology

It is imperative that the meeting be held on these dates to accommodate the scheduling priorities of the key participants.

Beth M. McCormick,
Advisory Committee Management Officer, National Aeronautics and Space Administration.

[FR Doc. 01-25322 Filed 10-9-01; 8:45 am]

BILLING CODE 7510-01-P